DEPARTMENT OF HOMELAND SECURITY

Federal Emergency Management Agency

44 CFR Part 65

[Docket No. FEMA-B-7448]

Changes in Flood Elevation Determinations

AGENCY: Federal Emergency Management Agency (FEMA), Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps in effect prior to this determination for the listed communities.

From the date of the second publication of these changes in a newspaper of local circulation, any person has ninety (90) days in which to request through the community that the Mitigation Division Director for the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E. Hazard Identification Section, Mitigation Division, Emergency Preparedness and Response Directorate, FEMA, 500 C Street SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities.

The changes BFEs are in accordance with 44 CFR 65.4.

National Environmental Policy Act

This rule is categorically excluded from the requirements of 44 CFR Part 10, Environmental Consideration. No environmental impact assessment has been prepared.

Regulatory Flexibility Act

The Mitigation Division Director for the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated Oct. 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case no. | Date and name of newspaper where notice was published | Chief executive officer of community | Effective date of modification | Community no.
Arizona:
Gila | City of Globe (04-09-0928P) | Jun. 16, 2004, Jun. 23, 2004, Arizona Silver Belt | The Honorable Stanley Gibson, Mayor, City of Globe, 150 North Pine Street, Globe, Arizona 85501 | Sept. 22, 2004 | 040029
Maricopa | City of Avondale (04-09-0311P) | Jun. 17, 2004, Jun. 24, 2004, Arizona Republic | The Honorable Ronald J. Drake, Mayor, City of Avondale, 525 North Central Avenue, Avondale, Arizona 85323 | Sept. 23, 2004 | 040038
Maricopa | Town of Buckeye (04-09-0585P) | Jun. 17, 2004, Jun. 24, 2004, Buckeye Valley News | The Honorable Dusty Hull, Mayor, Town of Buckeye, 100 North Apache Road, Suite A, Buckeye, Arizona 85326 | May 27, 2004 | 040039
Maricopa | Town of Buckeye (04-09-0544P) | Jun. 17, 2004, Jun. 24, 2004, Buckeye Valley News | The Honorable Dusty Hull, Mayor, Town of Buckeye, 100 North Apache Road, Suite A, Buckeye, Arizona 85326 | May 27, 2004 | 040039
Maricopa | City of Phoenix (02-09-290P) | Jun. 3, 2004, Jun. 10, 2004, Arizona Business Gazette | The Honorable Phil Gordon, Mayor, City of Phoenix, 200 West Washington Street, 11th Floor, Phoenix, Arizona 85003-1611 | Sept. 9, 2004 | 040051
Maricopa | City of Phoenix (03-09-1019P) | Jun. 17, 2004, Jun. 24, 2004, Arizona Business Gazette | The Honorable Phil Gordon, Mayor, City of Phoenix, 200 West Washington Street, 11th Floor, Phoenix, Arizona 85003-1611 | Sept. 23, 2004 | 040051
Maricopa | Unincorporated Areas (04-09-0311P) | Jun. 17, 2004, Jun. 24, 2004, Arizona Republic | The Honorable Andrew W. Kunasek, Chairman, Maricopa County Board of Supervisors, 301 West Jefferson Street, 10th Floor, Phoenix, Arizona 85003 | Sept. 23, 2004 | 040037
Pima | Town of Marana (02-09-1039P) | Jun. 10, 2004, Jun. 17, 2004, Tucson Citizen | The Honorable Bobby Sutton, Jr., Mayor, Town of Marana, 13251 North Lon Adams Road, Marana, Arizona 85653 | Sept. 16, 2004 | 040118
Pima | Town of Marana (04-09-0308P) | May 6, 2004, May 13, 2004, Daily Territorial | The Honorable Bobby Sutton, Jr., Mayor, Town of Marana, 13251 North Lon Adams Road, Marana, Arizona 85653 | Aug. 12, 2004 | 040118
Pima | Unincorporated Areas (02-09-1039P) | Jun. 10, 2004, Jun. 17, 2004, Tucson Citizen | The Honorable Sharon Bronson, Chair, Pima County Board of Supervisors, 130 West Congress Street, 11th Floor, Tucson, Arizona 85701 | Sept. 16, 2004 | 040073
California:
Los Angeles | City of Burbank (02-09-874P) | Jun. 16, 2004, Jun. 23, 2004, Burbank Leader | The Honorable Stacey Murphy, Mayor, City of Burbank, P.O. Box 6459, Burbank, California 91510-6459 | May 20, 2004 | 065018
San Diego | City of Escondido (03-09-1334P) | Jun. 10, 2004, Jun. 17, 2004, North County Times | The Honorable Lori Pfeiler, Mayor, City of Escondido, 201 North Broadway, Escondido, California 92025 | May 21, 2004 | 060290
San Diego | City of San Diego (02-09-0909X) | Apr. 29, 2004, May 6, 2004, San Diego Daily Transcript | The Honorable Richard M. Murphy, Mayor, City of San Diego, 202 C Street, 11th Floor, San Diego, California 92101 | Aug. 5, 2004 | 060295
San Diego | Unincorporated Areas (04-09-0909X) | Apr. 29, 2004, May 6, 2004, San Diego Daily Transcript | The Honorable Dianne Jacob, Chairwoman, San Diego County Board of Supervisors, 1600 Pacific Highway, Room 335, San Diego, California 92101 | Aug. 5, 2004 | 060284
San Diego | Unincorporated Areas (03-09-1334P) | Jun. 10, 2004, Jun. 17, 2004, North County Times | The Honorable Greg Cox, Chairman, San Diego County, Board of Supervisors, 1600 Pacific Highway, Room 335, San Diego, California 92101 | May 21, 2004 | 060284
Solano | City of Fairfield (04-09-0394P) | Apr. 29, 2004, May 6, 2004, Daily Republic | The Honorable Karin MacMillan, Mayor, City of Fairfield, 1000 Webster Street, Fairfield, California 94533 | Aug. 5, 2004 | 060370
Colorado: Adams | Unincorporated Areas (02-08-250P) | Jun. 23, 2004, Jun. 30, 2004, Brighton Standard-Blade | The Honorable Elaine T. Valente, Chairwoman, Adams County, Board of Commissioners, 450 South Fourth Avenue, Brighton, Colorado 80601 | Sept. 29, 2004 | 080001
Adams | Unincorporated Areas (03-08-0677P) | Apr. 9, 2004, Apr. 16, 2004, Eastern Colorado News | The Honorable Elaine T. Valente, Chairwoman, Adams County, Board of Commissioners, 450 South Fourth Avenue, Brighton, Colorado 80601 | Jul. 16, 2004 | 080001
Adams | City of Westminster (02-08-250P) | Jun. 23, 2004, Jun. 30, 2004, Brighton Standard-Blade | The Honorable Ed Moss, Mayor, City of Westminster, 4800 West 92nd Avenue, Westminster, Colorado 80031 | Sept. 29, 2004 | 080008
Boulder | City of Boulder (04-08-0098P) | Jun. 10, 2004, Jun. 17, 2004, Boulder Daily Camera | The Honorable William R. Toor, Mayor, City of Boulder, P.O. Box 791, Boulder, Colorado 80306 | Sept. 16, 2004 | 080024
Boulder and Weld | Town of Erie (04-08-0066P) | Apr. 28, 2004, May 5, 2004, Erie Review | The Honorable Barbara Connors, Mayor, Town of Erie, P.O. Box 750, Erie, Colorado 80516 | Aug. 4, 2004 | 080181
Boulder | City of Lafayette (04-08-0259P) | May 27, 2004, Jun. 3, 2004, Boulder Daily Camera | The Honorable Chris Berry, Mayor, City of Lafayette, 1290 South Public Road, Lafayette, Colorado 80026 | Sept. 1, 2004 | 080026
Boulder | Unincorporated Areas (04-08-0259P) | May 27, 2004, Jun. 3, 2004, Boulder Daily Camera | The Honorable Paul Danish, Chairman, Boulder County, Board of Commissioners, P.O. Box 471, Boulder, Colorado 80306 | Sept. 1, 2004 | 080023
Broomfield | City and County of Broomfield (03-08-0022P) | May 5, 2004, May 12, 2004, Broomfield Enterprise | The Honorable Karen Stuart, Mayor, City and County of Broomfield, One DesCombes Drive, Broomfield, Colorado 80020 | Aug. 25, 2004, | 085073
Broomfield | City and County of Broomfield (04-08-0259P) | May 26, 2004, Jun. 2, 2004, Broomfield Enterprise | The Honorable Karen Stuart, Mayor, City and County of Broomfield, One DesCombes Drive, Broomfield, Colorado 80020 | Sept. 1, 2004 | 085073
Broomfield and Jefferson | City and County of Broomfield (02-08-447P) | Jun. 9, 2004, Jun. 16, 2004, Broomfield Enterprise | The Honorable Karen Stuart, Mayor, City and County of Broomfield, One DesCombes Drive, Broomfield, Colorado 80020 | Sept 15, 2004 | 085073
Broomfield and Jefferson | City of Westminster (02-08-447P) | Jun. 9, 2004, Jun. 16, 2004, Broomfield Enterprise | The Honorable Ed Moss, Mayor, City of Westminster, 4800 West 92nd Avenue, Westminster, Colorado 80031 | Sept. 15, 2004 | 080008
Douglas | Unincorporated Areas (03-08-0425P) | Apr. 22, 2004, Apr. 29, 2004, Douglas County News Press | The Honorable James R. Sullivan, Chairman, Douglas County, Board of Commissioners, 100 Third Street, Castle Rock, Colorado 80104 | Jul. 29, 2004 | 080049
El Paso | City of Colorado Springs (03-08-0229P) | May 27, 2004, Jun. 3, 2004, The Gazette | The Honorable Lionel Rivera, Mayor, City of Colorado Springs, P.O. Box 1575, Colorado Springs, Colorado 80901 | Sept. 2, 2004 | 080060
El Paso | Town of Green Mountain (04-08-0136P) | Apr. 8, 2004, Apr. 15, 2004, The Gazette | The Honorable Richard Bratton, Mayor, Town of Green Mountain Falls, P.O. Box 524, Green Mountain Falls, CO 80819 | Jul. 15, 2004 | 080062
El Paso | City of Manitou Springs (04-08-0013P) | Jun. 10, 2004, Pikes Peak Bulletin | The Honorable Marcy Morrison, Mayor, City of Manitou Springs, 606 Manitou Avenue, Manitou Springs, Colorado 80829 | May 12, 2004 | 080063
El Paso | Unincorporated Areas (03-08-0318P) | Apr. 28, 2004, May 5, 2004, El Paso County News | The Honorable Chuck Brown, Chair, El Paso County Board of Commissioners, 27 East Vermijo Avenue, Colorado Springs, Colorado 80903-2203 | Apr. 9, 2004 | 080059
Eagle | Town of Eagle (04-08-0145P) | May 27, 2004, Jun. 3, 2004, Eagle Valley Enterprise | The Honorable Roxie Deane, Mayor, Town of Eagle, 200 Broadway, Eagle, Colorado 81631 | Sept. 2, 2004 | 080238
Eagle | Unincorporated Areas (04-08-0145P) | May 27, 2004, Jun. 3, 2004, Eagle Valley Enterprise | The Honorable Michael Gallagher, Chairman, Eagle County Board of Commissioners, P.O. Box 850, Eagle, Colorado 81631 | Sept. 2, 2004 | 080051
Adams and Jefferson | City of Westminster (03-08-0645P) | May 13, 2004, May 20, 2004, Westminster Window | The Honorable Ed Moss, Mayor, City of Westminster, 4800 West 92nd Avenue, Westminster, Colorado 80031 | Aug. 19, 2004 | 080008
North Carolina: Rowan | City of Salisbury (03-04-575P) | Apr. 15, 2004, Apr. 22, 2004, Salisbury Post | The Honorable Susan W. Kluttz, Mayor, City of Salisbury, 217 South Main Street, Salisbury, North Carolina 28144 | Jul. 22, 2004 | 370215
Utah: Salt Lake | City of West Jordan (04-08-0014P) | Apr. 22, 2004, Apr. 29, 2004, Salt Lake Tribune | The Honorable Bryan Holladay, Mayor, City of West Jordan, 8000 Redwood Road, West Jordan, Utah 84088 | Mar. 25, 2004 | 490108

(Catalog of Federal Domestic Assistance No. 83.100, “Flood Insurance.”)
Dated: August 10, 2004.
David I. Maurstad,
Acting Director, Mitigation Division, Emergency Preparedness and Response Directorate.

[FR Doc. 04-18691 Filed 8-13-04; 8:45 am]

BILLING CODE 9110-12-P